DEPARTMENT OF THE TREASURY

United States Mint

Notification of Pricing for United States Mint 2009 Annual Sets

ACTION: Notification of Pricing for United States Mint 2009 Annual Sets.

SUMMARY: The United States Mint is announcing pricing for the 2009 United States Mint District of Columbia and U.S. Territories Quarters Silver Proof Set™, the 2009 United States Mint Proof Set®, the 2009 United States Mint Uncirculated Coin Set®, and the 2009 United States Mint Silver Proof Set™.

The 2009 United States Mint District of Columbia and U.S. Territories Quarters Silver Proof Set will be released this spring, and will be priced at $29.95.

The 2009 United States Mint Proof Set will be released this summer, and will be priced at $29.95.

The 2009 United States Mint Uncirculated Coin Set will be released this summer, and will be priced at $27.95.

The 2009 United States Mint Silver Proof Set will be released this summer, and will be priced at $52.95.

FOR FURTHER INFORMATION CONTACT: B.B. Craig, Associate Director for Sales and Marketing; United States Mint, 801 Ninth Street, NW., Washington, DC 20220; or call 202-354-7500.

Authority: 31 U.S.C. 5111, 5112, 5132 & 9701.

Dated: March 11, 2009.
Edmund C. Moy,
Director, United States Mint.

[FR Doc. E9-5723 Filed 3-16-09; 8:45 am]

BILLING CODE 4810-37-P